DEPARTMENT OF TRANSPORTATION

Federal Aviation Administration

14 CFR Part 71

[Docket No. FAA-2023-1014; Airspace Docket No. 23-ACE-2]

RIN 2120-AA66

Amendment of VOR Federal Airways V-14 and V-67, and Area Navigation Route T-272; Vandalia, IL

AGENCY: Federal Aviation Administration (FAA), DOT.

ACTION: Final rule.

SUMMARY: This action amends Very High Frequency Omnidirectional Range (VOR) Federal airways V-14 and V-67, and United States Area Navigation (RNAV) route T-272. The FAA is taking this action due to the planned decommissioning of the VOR portion of the Vandalia, IL (VLA), VOR/Distance Measuring Equipment (VOR/DME) navigational aid (NAVAID). The Vandalia VOR is being decommissioned in support of the FAA's VOR Minimum Operational Network (MON) program.

DATES: Effective date 0901 UTC, January 25, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published a notice of proposed rulemaking for Docket No. FAA-2023-1014 in the Federal Register (88 FR 29580; May 8, 2023), proposing to amend VOR Federal airways V-14 and V-67, and United States RNAV route T-272 due to the planned decommissioning of the VOR portion of the Vandalia, IL, VOR/DME NAVAID. Interested parties were invited to participate in this rulemaking effort by submitting written comments on the proposal. No comments were received.

Incorporation by Reference

VOR Federal airways are published in paragraph 6010(a) and United States Area Navigation Routes (T-routes) are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. This amendment action will be published in the next update to FAA Order JO 7400.11.

FAA Order JO 7400.11H lists Class A, B, C, D, and E airspace areas, air traffic service routes, and reporting points.

The Rule

This action amends 14 CFR part 71 by amending VOR Federal airways V-14 and V-67, and United States RNAV route T-272 due to the planned decommissioning of the VOR portion of the Vandalia, IL, VOR/DME. The Air Traffic Service (ATS) route actions are described below.

V-14: Prior to this final rule, V-14 extended between the Chisum, NM, VOR/Tactical Air Navigation (VORTAC) and the Tulsa, OK, VORTAC; and between the Springfield, MO, VORTAC and the Flag City, OH, VORTAC. The airway segment between the St. Louis, MO, VORTAC and the Terre Haute, IN, VORTAC is removed. As amended, the airway now extends between the Chisum VORTAC and the Tulsa VORTAC, between the Springfield VORTAC and the St. Louis VORTAC, and between the Terre Haute VORTAC and the Flag City VORTAC.

V-67: Prior to this final rule, V-67 extended between the intersection of the Centralia, IL, VORTAC 010° and Vandalia, IL, VOR/DME 162° radials (CORKI Fix) and the Rochester, MN, VOR/DME. The airway segment between the intersection of the Centralia VORTAC 010° and Vandalia VOR/DME 162° radials (CORKI Fix) and the Spinner, IL, VORTAC is removed. As amended, the airway now extends between the Spinner VORTAC and the Rochester VOR/DME.

T-272: Prior to this final rule, T-272 extended between the Hallsville, MO, VORTAC and the Vandalia, IL, VOR/DME. The Vandalia, IL, VOR/DME route point is changed to the TYMME, IL, waypoint (WP) which is located approximately 60 feet northeast of the Vandalia VOR/DME. As amended, the route now extends between the Hallsville VORTAC and the TYMME WP. Additionally, the Hallsville, MO, identifier is added to the first line of the route description and the geographic coordinates of each route point are updated to be expressed in degrees, minutes, seconds, and hundredths of a second.

The NAVAID radials contained in the V-14 description listed below in The Amendment section are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-14 and V-67, and United States RNAV route T-272, due to the planned decommissioning of the VOR portion of the Vandalia, IL, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5k, which categorically excludes from further environmental impact review publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6010(a) Domestic VOR Federal Airways.

* * * * *

V-14 [Amended]

From Chisum, NM; Lubbock, TX; Childress, TX; Hobart, OK; Will Rogers, OK; INT Will Rogers 052° and Tulsa, OK, 246° radials; to Tulsa. From Springfield, MO; Vichy, MO; INT Vichy 067° and St. Louis, MO, 225° radials; to St. Louis. From Terre Haute, IN; Brickyard, IN; Muncie, IN; to Flag City, OH.

* * * * *

V-67 [Amended]

From Spinner, IL; Burlington, IA; Iowa City, IA; Cedar Rapids, IA; Waterloo, IA; to Rochester, MN.

* * * * *

Paragraph 6011 United States Area Navigation Routes.

* * * * *

T-272 Hallsville, MO (HLV) to TYMME, IL [Amended]
Hallsville, MO (HLV) | VORTAC | (lat. 39°06′48.75″ N, long. 092°07′41.64″ W)
TYMME, IL | WP | (lat. 39°05′38.35″ N, long. 089°09′43.71″ W)

* * * * *

Issued in Washington, DC, on October 27, 2023.
Karen L. Chiodini,
Acting Manager, Rules and Regulations Group.

[FR Doc. 2023-24077 Filed 11-2-23; 8:45 am]

BILLING CODE 4910-13-P